DEPARTMENT OF COMMERCE

National Oceanic and Atmospheric Administration Science Advisory Board (SAB)

AGENCY: Office of Oceanic and Atmospheric Research (OAR), National Oceanic and Atmospheric Administration (NOAA), Department of Commerce (DOC).

ACTION: Notice of Renewal of Charter.

SUMMARY: Pursuant to the provisions of the Federal Advisory Committee Act, as amended (FACA), 5 U.S.C. 1001 et seq., and after consultation with the General Services Administration, the Deputy Assistant Secretary for Administration, performing the non-exclusive functions and duties of the Deputy Secretary of Commerce has determined that renewal of the NOAA Science Advisory Board is in the public interest. The committee has been a successful undertaking and has provided advice to the Under Secretary for Oceans and Atmosphere on strategies for research, education, and application of science to operations and information services. The committee will continue to provide such advice and recommendations in the future. The structure and responsibilities of the Committee are unchanged from when it was originally established in September 1997. The Committee will continue to operate in accordance with the provisions of the Federal Advisory Committee Act.

FOR FURTHER INFORMATION CONTACT: Casey Stewart, Executive Director, SSMC3, Room 11360, 1315 East-West Hwy., Silver Spring, MD 20910; Phone Number: 240-653-8297; Email: noaa.scienceadvisoryboard@noaa.gov; or visit the NOAA SAB website at https://www.sab.noaa.gov.

David Holst,
Chief Financial Officer/Administrative Officer, Office of Oceanic and Atmospheric Research, National Oceanic and Atmospheric Administration.

[FR Doc. 2025-13430 Filed 7-16-25; 8:45 am]

BILLING CODE 3510-KD-P